FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than July 21, 2022.

A. Federal Reserve Bank of Minneapolis (Chris P. Wangen, Assistant Vice President), 90 Hennepin Avenue, Minneapolis, Minnesota 55480-0291, or electronically to MA@mpls.frb.org:

1. The Alix E. Behm Revocable Living Trust, Alix E. Behm, as trustee; and the Kenneth M. Behm Revocable Living Trust, Kenneth M. Behm, as trustee, all of Willmar, Minnesota; to join the Behm Family Shareholder Group, a group acting in concert, to acquire voting shares of Kandiyohi Bancshares, Inc., Willmar, Minnesota, and thereby indirectly acquire voting shares of Home State Bank, Litchfield, Minnesota.

B. Federal Reserve Bank of Dallas (Karen Smith, Director, Applications) 2200 North Pearl Street, Dallas, Texas 75201-2272:

1. Scotty Dan Allen and Johnny Brad Allen, both of Stephenville, Texas; as a group acting in concert to acquire additional voting shares of F & M Bancshares, Inc., and thereby indirectly acquire voting shares of Farmers and Merchants Bank, both of De Leon, Texas. In addition, Scotty Dan Allen, individually, to retain voting shares of F & M Bancshares, Inc., and thereby indirectly retain voting shares of Farmers and Merchants Bank.

Board of Governors of the Federal Reserve System.
Michele Taylor Fennell,
Deputy Associate Secretary of the Board.

[FR Doc. 2022-14379 Filed 7-5-22; 8:45 am]

BILLING CODE P